FEDERAL RETIREMENT THRIFT INVESTMENT BOARD

Privacy Act of 1974; System of Records

AGENCY: Federal Retirement Thrift Investment Board (FRTIB).

ACTION: Notice of a Modified System of Records.

SUMMARY: Pursuant to the Privacy Act of 1974, the Federal Retirement Thrift Investment Board (FRTIB) proposes to modify an existing system of records. Records contained in this system are used to manage Thrift Savings Plan (TSP) accounts, including ensuring the integrity of the Plan, recording activity concerning the TSP account of each Plan participant, communicating with the participant, spouse, former spouse, and beneficiary concerning the account, ensuring that he or she receives a correct payment from the Plan.

DATES: This system will become effective upon its publication in today's Federal Register, with the exception of the routine uses which will be effective on September 28, 2020. FRTIB invites written comments on the routine uses and other aspects of this system of records. Submit any comments by September 28, 2020.

ADDRESSES: You may submit written comments to FRTIB by any one of the following methods:

• Federal eRulemaking Portal: http://www.regulations.gov. Follow the website instructions for submitting comments.

• Fax: 202-942-1676.

• Mail or Hand Delivery: Office of General Counsel, Federal Retirement Thrift Investment Board, 77 K Street NE, Suite 1000, Washington, DC 20002.

FOR FURTHER INFORMATION CONTACT: Megan Grumbine, General Counsel and Senior Agency Official for Privacy, Federal Retirement Thrift Investment Board, Office of General Counsel, 77 K Street NE, Suite 1000, Washington, DC 20002, (202) 942-1600. For access to any of the FRTIB's systems of records, contact Amanda Haas, FOIA Officer, Office of General Counsel, at the above address and phone number.

SUPPLEMENTARY INFORMATION: This notice serves to update and modify FRTIB-1 to include the following updates:

Update to the Authority for Maintenance of the System: The FRTIB is modifying the Authority for the Maintenance of the System to include the Thrift Savings Plan Enhancement Act of 2009, which requires the FRTIB to submit an annual report to Congress on the operations of the Thrift Savings Plan. This report must include demographic information on participants.

Update to System Manager: The FRTIB is modifying the System Manager to the Director of the Office of Participant Services. The FRTIB is also including a contact number for the System Manager.

Update to Purpose of the System: The FRTIB is modifying the Purpose of the System to include compliance with the reporting requirements of the Thrift Savings Plan Enhancement Act of 2009. Information derived from those reports and within the system may also be used to inform educational and outreach efforts of the FRTIB.

Update to Categories of Records: The FRTIB is modifying the Categories of Records to include documents used to verify participant and beneficiary identity, including U.S. passport, driver's license, or other Federal or state-issued verification documents. The collection of these documents is for the specific purpose of removing administrative holds on a TSP account, thus ensuring the security and integrity of TSP accounts. Changes are also being made to include collection of demographic data on TSP participants, in order to comply with reporting requirements of the Thrift Savings Plan Enhancement Act. The FRTIB is also adding TSP account number, TSP PIN, and death certificates for participants as pertaining to beneficiaries to the Categories of Records.

Update to Routine Uses: On May 22, 2007, OMB issued Memorandum M-07-16, Safeguarding Against and Responding to the Breach of Personally Identifiable Information, to the heads of all executive departments and agencies. OMB required agencies publish a routine use for their systems of records specifically applying to the disclosure of information in connection with response and remedial efforts in the event of a breach of personally identifiable information. FRTIB published a notice in the Federal Register, 80 FR 43428 (July 22, 2015), creating new general routine uses, including one pertaining to breach mitigation and notification, as required by OMB M-07-16.

On January 3, 2017, OMB issued Memorandum M-17-12, Preparing for and Responding to a Breach of Personally Identifiable Information, to the heads of all executive departments and agencies. OMB M-17-12 rescinds and replaces OMB M-07-16 and updates agency routine use requirements for responding to a breach. Specifically, OMB M-17-12 requires all Senior Agency Officials for Privacy to ensure that their agency's System of Records Notices include a routine use for the disclosure of information necessary to respond to a breach of the agency's personally identifiable information. Additionally, OMB M-17-12 requires agencies to add a routine use to ensure that agencies are able to disclose records in their systems of records that may reasonably be needed by another agency in responding to a breach. To satisfy the routine use requirements in OMB M-17-12, FRTIB is issuing this notice in the Federal Register.

Pursuant to OMB M-17-12, this notice: (1) Rescinds the breach response routine use published at 80 FR 43428 (July 22, 2015); (2) revises the breach response routine use for the FRTIB system of records, listed below; and (3) adds a new routine use to ensure that the agency can assist another agency in responding to a confirmed or suspected breach, as appropriate. The routine uses have been renumbered to incorporate the changes in these routine uses.

The FRTIB is also modifying a routine use covering sharing for the purposes of maintaining health or safety of an individual to allow for sharing with local and state agencies in the event of a reasonable and credible threat to an individual's health or safety.

Update to Policies and Practices for Retrieval of Records: The FRTIB is modifying the Policies and Practices for Retrieval of Records to include TSP Account Number.

Updates to Policies and Practices for Retention and Disposal of Records: The FRTIB is modifying the Policies and Practices for Retention and Disposal of Records to reflect that call recording records fall under the General Records Schedule.

Updates to Record Access Procedures: The FRTIB is modifying the Record Access Procedures to reflect that either TSP Account Number may be used in lieu of Social Security Number in certain cases to access records.

Updates to Contesting Record Procedures: The FRTIB is modifying the Contesting Record Procedures to reflect that either TSP Account Number may be used in lieu of Social Security Number in certain cases to contest or correct records.

The FRTIB is also making non-substantive revisions to the system of records notice to align with the Office of Management and Budget's recommended model in Circular A-108, Federal Agency Responsibilities for Review, Reporting, and Publication under the Privacy Act, appendix II.

In accordance with 5 U.S.C. 552a(r), the Agency has provided a report to OMB and to Congress on this notice of a modified system of records.

Megan Grumbine,
General Counsel and Senior Agency Official for Privacy.

SYSTEM NAME AND NUMBER:

FRTIB-1, Thrift Savings Plan Records.

SECURITY CLASSIFICATION:

This system contains unclassified information.

SYSTEM LOCATION:

These records are located at the office of the entity engaged by the Agency to perform record keeping services for the Thrift Savings Plan (TSP). The current address for this record keeper is listed at http://www.tsp.gov.

SYSTEM MANAGER(S):

Director, Office of Participant Services, Federal Retirement Thrift Investment Board, 77 K Street NE, Suite 1000, Washington, DC 20002, (202) 942-1600.

AUTHORITY FOR MAINTENANCE OF THE SYSTEM:

5 U.S.C. 8474; Thrift Savings Plan (TSP) Enhancement Act of 2009, Public Law 111-31.

PURPOSE(S) OF THE SYSTEM:

The purpose of this system of records is to ensure the integrity of the Plan, to record activity concerning the TSP account of each Plan participant, to communicate with the participant, spouse, former spouse, and beneficiary concerning the account, and to make certain that he or she receives a correct payment from the Plan. Information contained in the system will also be used to comply with the reporting requirements of the TSP Enhancement Act of 2009 and to develop outreach and educational initiatives for participants and beneficiaries.

CATEGORIES OF INDIVIDUALS COVERED BY THE SYSTEM:

All participants (which term includes former participants, i.e., participants whose accounts have been closed), as well as spouses, former spouses, and beneficiaries of TSP participants. Participants in the TSP consist of present and former Members of Congress and Federal employees covered by the Federal Employees' Retirement System Act of 1986, (FERSA) as amended, 5 U.S.C. chapter 84; all present and former Members of Congress and Federal employees covered by the Civil Service Retirement System who elect to contribute to the TSP; Supreme Court Justices, Federal judges, and magistrates who elect to contribute; certain union officials, those individuals described in 5 CFR part 1620, and any other individual for whom an account has been established.

CATEGORIES OF RECORDS IN THE SYSTEM:

These records contain the following kinds of information: Records of TSP account activity, including account balances, employee contributions, agency automatic (one percent) and agency matching contributions, earnings, interfund transfers, contribution allocation elections, investment status by fund, loan and withdrawal information, employment status, retirement code and whether employee is vested, error correction information, participant's date of birth, email address, phone number, and designated beneficiary; records of spousal waivers and consents; powers of attorney and conservatorship and guardianship orders; participant's name, current or former employing agency, and servicing payroll and personnel office; records of Social Security number, TSP account number, TSP PIN, and home address for participants, spouses, former spouses, and beneficiaries and potential beneficiaries; demographic information (e.g., gender, education information, ethnicity, race, etc.); demographic information on uniformed services participants (e.g., grade, service branch, rank, months in rank, occupation information); death certificates; records of bankruptcy actions; information regarding domestic relations court orders to divide the account; child support, child abuse, and alimony orders; information on payments to the participant's spouse, former spouse, or children and their attorneys; information on notices sent to participants, spouses, former spouses, and beneficiaries; and general correspondence. Documents used to verify identity including: Birth certificate, U.S. passport, driver's license or state-issued ID, or other government-issued ID that can be used to verify identity.

RECORD SOURCE CATEGORIES:

The information in this system is obtained from the following sources: (a) The individual to whom the information pertains; (b) Agency payroll and personnel records; (c) Court orders; or (d) Spouses, former spouses, other family members, beneficiaries, legal guardians, and personal representatives (executors, administrators).

ROUTINE USES OF RECORDS MAINTAINED IN THE SYSTEM, INCLUDING CATEGORIES OF USERS AND PURPOSES OF SUCH USES:

Information about covered individuals may be disclosed without consent as permitted by the Privacy Act of 1974, 5 U.S.C. 552a(b) and:

1. Routine Use—Tax Enforcement Agencies: To disclose financial data and addresses to Federal, state, and local governmental tax enforcement agencies so that they may enforce applicable tax laws.

2. Routine Use—Designated Annuity Vendor: To disclose to the designated annuity vendor in order to provide TSP participants who have left Federal service with an annuity.

3. Routine Use—Other Retirement Plans: To disclose to sponsors of eligible retirement plans for purposes of transferring the funds in the participant's account to an Individual Retirement Arrangement or into another eligible retirement plan.

4. Routine Use—Spousal Rights: To disclose to current and former spouses and their attorneys in order to protect spousal rights under FERSA and to receive benefits to which they may be entitled.

5. Routine Use—Death Benefits, Beneficiaries: When a participant to whom a record pertains dies, to disclose the following types of information to any potential beneficiary: Information in the participant's record which could have been properly disclosed to the participant when living (unless doing so would constitute a clearly unwarranted invasion of privacy) and the name and relationship of any other person who claims the benefits or who is entitled to share the benefits payable.

6. Routine Use—Death Benefits, Estate Administration: When a participant to whom a record pertains dies, to disclose the following types of information to anyone handling the participant's estate: Information in the participant's record which could have been properly disclosed to the participant when living (unless doing so would constitute a clearly unwarranted invasion of privacy), the name and the relationship of any person who claims the benefits or who is entitled to share the benefits payable, and information necessary for the estate's administration (for example, post-death tax reporting).

7. Routine Use—Beneficiaries, Incompetent or Legal Disability: To disclose information to any person who is named by the participant, spouse, former spouse, or beneficiary of the participant in a power of attorney and to any person who is responsible for the care of the participant or the spouse, former spouse, or beneficiary of the participant to whom a record pertains, and who is found by a court to be incompetent or under other legal disability, information necessary to manage the participant's account and to ensure payment of benefits to which the participant, spouse, former spouse or beneficiary of the participant is entitled.

8. Routine Use—Congressional Inquiries: To disclose information to a congressional office from the record of a participant or of the spouse, former spouse, or beneficiary of a participant in order for that office to respond to a communication from that person.

9. Routine Use—Agency Payroll or Personnel Offices: To disclose to agency payroll or personnel offices in order to calculate benefit projections for individual participants, to calculate error corrections, to reconcile payroll records, and otherwise to ensure the effective operation of the Thrift Savings Plan.

10. Routine Use—Department of Treasury, Payments: To disclose to the Department of the Treasury information necessary to issue checks from accounts of participants in accordance with withdrawal or loan procedures or to make a payment to a spouse, former spouse, child, or his or her attorney, or to a beneficiary.

11. Routine Use—Audit: To disclose to the Department of Labor and to private sector audit firms so that they may perform audits as provided for in FERSA.

12. Routine Use—Parent Locator Service: To disclose to the Parent Locator Service of the Department of Health and Human Services, upon its request, the address of a participant, spouse, former spouse, or beneficiary of the participant for the purpose of enforcing child support obligations against that individual.

13. Routine Use—Investigations, Third Parties: To disclose pertinent information to the appropriate Federal, foreign, state, local, or tribal agency, or to other public authority responsible for investigating, prosecuting, enforcing, or implementing a statute, rule, regulation, or order, upon its request, when presented with an indication that the information is relevant to any enforcement, regulatory, investigative, or prosecutorial responsibility of that agency or authority.

14. Routine Use—Private Relief Legislation: To disclose information to the Office of Management and Budget at any stage of the legislative coordination and clearance process in connection with private relief legislation as set forth in OMB Circular No. A-19.

15. Routine Use—Participant and Third Parties, Health or Safety: If there is a reasonable and credible threat to an individual's health or safety, to disclose to a state, local, or Federal agency, in response to its request, the address of a participant, spouse, former spouse, or beneficiary of the participant and any other information the agency needs to contact that individual concerning the possible threat to his or her health or safety.

16. Routine Use—Litigation, Department of Justice: To disclose information to the Department of Justice, where:

1. The Board or any component of it, or

2. Any employee of the Board in his or her official capacity, or

3. Any employee of the Board in his or her individual capacity, where the Department of Justice has agreed to represent the employee; or

4. The United States (where the Board determines that litigation is likely to affect the agency or any of its components) is a party to litigation or has an interest in such litigation, and the Board determines that use of such records is relevant and necessary to the litigation. However, in each such case, the Board must determine that disclosure of the records to the Department of Justice is a use of the information contained in the records which is compatible with the purpose for which the records were collected.

17. Routine Use—Litigation, Third Parties: In response to a court subpoena, or to appropriate parties engaged in litigation or preparing for possible litigation. Examples include disclosure to potential witnesses for the purpose of securing their testimony to courts, magistrates, or administrative tribunals, to parties and their attorneys in connection with litigation or settlement of disputes, or to individuals seeking information through established discovery procedures in connection with civil, criminal, or regulatory proceedings.

18. Routine Use—Contractors and Third Parties: To disclose to contractors and their employees who have been engaged to assist the Board in performing a contract service or agreement, or who have been engaged to perform other activity related to this system of records and who need access to the records in order to perform the activity. Recipients of TSP records are required to comply with the requirements of the Privacy Act.

19. Routine Use—Agency Personnel/Payroll Offices or Casualty Assistance Officers: To disclose to personnel from agency personnel/payroll offices or to casualty assistance officers when necessary to assist a beneficiary or potential beneficiary.

20. Routine Use—Consumer Reporting Agencies: To disclose to a consumer reporting agency when the Board is trying to collect a debt owed to the Board under the provisions of 5 U.S.C. 3711.

21. Routine Use—Commercial Loan Applications, Quality Control: To disclose to quality control companies when such companies are verifying documents submitted to lenders in connection with participants' commercial loan applications.

22. Routine Use—Federal Agencies, Analysis: To disclose to an official of another Federal agency information needed in the performance of official duties related to reconciling or reconstructing data files, compiling descriptive statistics, and making analytical studies in support of the function for which the records were collected and maintained.

23. Routine Use—Breach Mitigation and Notification: A record from this system may be disclosed to appropriate agencies, entities, and persons when (1) FRTIB suspects or has confirmed that there has been a breach of the system of records, (2) FRTIB has determined that as a result of the suspected or confirmed breach there is a risk of harm to individuals, FRTIB (including its information systems, programs, and operations), the Federal Government, or national security; and (3) the disclosure made to such agencies, entities, and persons is reasonably necessary to assist in connection with FRTIB's efforts to respond to the suspected or confirmed breach or to prevent, minimize, or remedy such harm.

24. Routine Use—Response to Breach of Other Records: A record from this system may be disclosed to another Federal agency or Federal entity, when FRTIB determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained on electronic or magnetic media, on microfilm, or in folders.

POLICIES AND PRACTICES FOR RETRIEVAL OF RECORDS:

These records are retrieved by Social Security number, TSP account number, and other personal identifiers of the individual to whom they pertain.

POLICIES AND PRACTICES FOR RETENTION AND DISPOSAL OF RECORDS:

TSP documents are retained for 99 years. Manual records are disposed of by compacting and burning; data on electronic or magnetic media are obliterated by destruction or reuse, or are returned to the employing agency. Call recording records from the Agency's contact center are retained in accordance with NARA General Records Schedule 6.5, Public Customer Services Records, DAA-GRS-2017-0002-0001.

ADMINISTRATIVE, TECHNICAL, AND PHYSICAL SAFEGUARDS:

Hard copy records are kept in metal file cabinets in a secure facility, with access limited to those whose official duties require access. Personnel are screened to prevent unauthorized disclosure. Security mechanisms for automatic data processing prevent unauthorized access to the electronic or magnetic media.

RECORD ACCESS PROCEDURES:

Individuals who want notice of whether this system of records contains information pertaining to them and to obtain access to their records may contact the TSP Service Office or their employing agency, as follows:

a. Participants who are current Federal employees may call or write their employing agency for personnel or payroll records regarding the agency's and the participant's contributions and adjustments to contributions. A request to the employing agency must be made in accordance with that agency's Privacy Act regulations or that agency's procedures. For other information regarding their TSP accounts, participants who are Federal employees may call or write the TSP Service Office.

b. Participants who have separated from Federal employment and spouses, former spouses, and beneficiaries of participants may call or write the TSP Service Office.

Individuals calling or writing the TSP Service Office must furnish the following information for their records to be located and identified:

a. Name, including all former names;

b. TSP Account Number or Social Security number; and

c. Other information, if necessary. For example, a participant may need to provide the name and address of the agency, department, or office in which he or she is currently or was formerly employed in the Federal service. A spouse, former spouse, or beneficiary of a participant may need to provide information regarding his or her communications with the TSP Service Office or the Board.

Participants may also inquire whether this system contains records about them and access certain records through the account access section of the TSP website and the ThriftLine (the TSP's automated telephone system). The TSP website is located at www.tsp.gov. To use the TSP ThriftLine, the participant must have a touch-tone telephone and call the following number 1-877-968-3778. Hearing-impaired participants should dial 1-877-847-4385. The following information is available on the TSP website and the ThriftLine: Account balance; available loan amount; the status of a monthly withdrawal payment; the current status of a loan or withdrawal application; and an interfund transfer request.

CONTESTING RECORD PROCEDURES:

Individuals who want to amend TSP records about themselves must submit a detailed written explanation as to why information regarding them is inaccurate or incorrect, as follows:

a. Participants who are current Federal employees must write their employing agency to request amendment of personnel records regarding employment status, retirement coverage, vesting code, and TSP service computation date, or payroll records regarding the agency's and the participant's contributions and adjustments to contributions. A request to the employing agency must be made in accordance with that agency's Privacy Act regulations or that agency's procedures. For other information regarding their TSP accounts, participants who are Federal employees must submit a request to the TSP Service Office.

b. Participants who have separated from Federal employment and spouses, former spouses, and beneficiaries of participants must submit a request to the TSP Service Office.

c. Individuals must provide their Social Security number or Account Number and name, and they may also need to provide other information for their records to be located and identified.

The employing agency or the TSP Service Office will follow the procedures set forth in 5 CFR part 1605, Error Correction Regulations, in responding to requests to correct contribution errors.

NOTIFICATION PROCEDURES:

See Record Access Procedures above.

EXEMPTIONS PROMULGATED FOR THE SYSTEM:

None.

HISTORY:

52 FR 12065 (Apr. 14, 1987); 55 FR 18949 (May 7, 1990); 59 FR 26496 (May 20, 1994); 64 FR 50092 (Sept. 15, 1999); 64 FR 67917 (Dec. 3, 1999); 74 FR 3043 (Jan. 16, 2009); 77 FR 11534 (Feb. 27, 2012); 77 FR 20022 (Apr. 3, 2012); 79 FR 21246 (Apr. 15, 2014).

[FR Doc. 2020-18944 Filed 8-27-20; 8:45 am]

BILLING CODE P